DEPARTMENT OF THE INTERIOR

Geological Survey

Scientific Earthquake Studies Advisory Committee Meeting

AGENCY: U.S. Geological Survey.

ACTION: Notice of meeting.

SUMMARY: Pursuant to Public Law 106-503, the Scientific Earthquake Studies Advisory Committee (SESAC) will hold its next meeting in the Southern California Earthquake Center (SCEC) Boardroom at the University of Southern California in Los Angeles, California. The Committee is comprised of members from academia, industry, and State government. The Committee shall advise the Director of the U.S. Geological Survey (USGS) on matters relating to the USGS's participation in the National Earthquake Hazards Reduction Program.

The Committee will receive reports on the status of activities of the Program and progress toward Program goals and objectives. The Committee will assess this information and provide guidance on the future undertakings and direction of the Earthquake Hazards Program. Focus topics for this meeting include a program review and strategic planning for 2016-2018.

Meetings of the Scientific Earthquake Studies Advisory Committee are open to the public.

DATES: January 28-29, 2015, commencing at 9 a.m. on the first day and adjourning at 5 p.m. on January 29, 2015.

FOR FURTHER INFORMATION CONTACT: Dr. William Leith, U.S. Geological Survey, MS 905, 12201 Sunrise Valley Drive, Reston, Virginia 20192, (703) 648-6786, wleith@usgs.gov.

William Leith,
Senior Science Advisor for Earthquake and Geologic Hazards.

[FR Doc. 2015-17640 Filed 7-17-15; 8:45 am]

BILLING CODE 4310-Y7-P